DEPARTMENT OF ENERGY

Federal Energy Regulatory Commission

[Docket No. CP23-131-000]

East Tennessee Natural Gas, LLC; Notice of Schedule for the Preparation of an Environmental Assessment for the System Alignment Program Project

On March 31, 2023, East Tennessee Natural Gas, LLC (East Tennessee) filed an application in Docket No. CP23-131-000 requesting a Certificate of Public Convenience and Necessity pursuant to section 7(c) and Authorization pursuant to section 7(b) of the Natural Gas Act to replace, construct, and operate certain natural gas pipeline facilities in Tennessee, North Carolina, and Virginia. The proposed project is known as the System Alignment Program Project (Project). East Tennessee states that the Project would improve the operational reliability of East Tennessee's system by minimizing the amount of displacement in the system design to meet customers' shifting needs.

On April 14, 2023, the Federal Energy Regulatory Commission (Commission or FERC) issued its Notice of Application for the Project. Among other things, that notice alerted agencies issuing federal authorizations of the requirement to complete all necessary reviews and to reach a final decision on a request for a federal authorization within 90 days of the date of issuance of the Commission staff's environmental document for the Project.

This notice identifies Commission staff's intention to prepare an environmental assessment (EA) for the Project and the planned schedule for the completion of the environmental review.¹

¹ 40 CFR 1501.10 (2020).

Schedule for Environmental Review

Issuance of EA November 17, 2023

90-day Federal Authorization Decision Deadline ² February 15, 2024

² The Commission's deadline applies to the decisions of other federal agencies, and state agencies acting under federally delegated authority, that are responsible for federal authorizations, permits, and other approvals necessary for proposed projects under the Natural Gas Act. Per 18 CFR 157.22(a), the Commission's deadline for other agency's decisions applies unless a schedule is otherwise established by federal law.

If a schedule change becomes necessary, additional notice will be provided so that the relevant agencies are kept informed of the Project's progress.

Project Description

East Tennessee would construct approximately 16.1 miles of 24-inch-diameter pipeline loop (Boyds Creek Loop) adjacent to its existing 16-inch-diameter pipeline in Knox and Sevier Counties, Tennessee; a new 6,000-horsepower compressor station (the Talbot Compressor Station) in Jefferson County, Tennessee; a new 19,000-horsepower compressor station in Rockingham County, North Carolina (the Draper Compressor Station); and ancillary facilities in Knox County and Sevier Counties, Tennessee and Washington and Wythe Counties, Virginia. East Tennessee would also replace approximately 6.4 miles of 8-inch-diameter pipeline with new 24-inch-diameter pipeline within its existing right-of-way in Washington County, Virginia and complete a hydrotest of an approximately 1.2 mile-segment of existing pipeline in Patrick County, Virginia.

Background

On October 19, 2022, the Commission issued a Notice of Scoping Period Requesting Comments on Environmental Issues for the Planned System Alignment Program Project (Notice of Scoping). The Notice of Scoping was issued during the pre-filing review of the Project in Docket No. PF22-8-000 and was sent to affected landowners; federal, state, and local government agencies; elected officials; environmental and public interest groups; Native American tribes; other interested parties; and local libraries and newspapers. In response to the Notice of Scoping, the Commission received comments from the North Carolina Department of Natural and Cultural Resources, Choctaw Nation of Oklahoma, U.S. Department of the Interior Bureau of Indian Affairs, State of Tennessee Department of Environment and Conservation: Division of Air Pollution Control, Commonwealth of Virginia Department of Conservation and Recreation, Environmental Protection Agency, Appalachian Voices, Teamsters National Pipeline Labor, Quapaw Nation, North Carolina Department of Environmental Quality, Tennessee Department of Environment and Conservation: Division of Water Resources, Virginia Department of Environmental Quality, and fifteen landowners. The primary issues raised by the commenters are impacts on cultural and natural resources; incomplete tribal consultations, worker trainings, and permitting; potential groundwater contamination; potential air and noise pollution; and impacts on landowner property. All substantive comments will be addressed in the EA. No cooperating agencies are involved in the preparation of this EA.

Additional Information

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

In order to receive notification of the issuance of the EA and to keep track of formal issuances and submittals in specific dockets, the Commission offers a free service called eSubscription. This service provides automatic notification of filings made to subscribed dockets, document summaries, and direct links to the documents. Go to https://www.ferc.gov/ferc-online/overview to register for eSubscription.

Additional information about the Project is available from the Commission's Office of External Affairs at (866) 208-FERC or on the FERC website (www.ferc.gov). Using the “eLibrary” link, select “General Search” from the eLibrary menu, enter the selected date range and “Docket Number” excluding the last three digits (i.e., CP23-131), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: May 30, 2023.
Kimberly D. Bose,
Secretary.

[FR Doc. 2023-11938 Filed 6-5-23; 8:45 am]

BILLING CODE 6717-01-P